DEPARTMENT OF JUSTICE

Drug Enforcement Administration

[Docket No. DEA-392]

Manufacturer of Controlled Substances Application: MALLINCKRODT, LLC; Correction

ACTION: Notice of application; correction.

SUMMARY: The Drug Enforcement Administration (DEA) published a document in the Federal Register of January 28, 2015, concerning a notice of application for registration as a bulk manufacturer of four basic classes of controlled substances. The document inadvertently omitted two basic classes of controlled substances.

Correction

In the Federal Register of January 28, 2015, in FR Doc. 2015-01576 (80 FR 4592), on page 4592, in the second column, in the table of the second paragraph of the Supplementary Information caption, add entries for “Oripavine” and “Tapentadol” to read as follows:

Controlled substances | Schedule
* * * * *
Oripavine (9330) | II
Tapentadol (9780) | II

Dated: June 01, 2015.
Joseph T. Rannazzisi,
Deputy Assistant Administrator.

[FR Doc. 2015-13835 Filed 6-5-15; 8:45 am]

BILLING CODE 4410-09-P